DEPARTMENT OF THE INTERIOR

Geological Survey

National Earthquake Prediction Evaluation Council (NEPEC) Advisory Committee

AGENCY: U.S. Geological Survey, Interior.

ACTION: Notice of meeting.

SUMMARY: Pursuant to Public Law 96-472, the National Earthquake Prediction Evaluation Council (NEPEC) will hold a 2-day meeting on November 3 and 4, 2010. The meeting will be held on the campus of the California Institute of Technology, Pasadena, California 91106. The Council is comprised of members from academia and the Federal Government. The Council shall advise the Director of the U.S. Geological Survey (USGS) on proposed earthquake predictions, on the completeness and scientific validity of the available data related to earthquake predictions, and on related matters as assigned by the Director. Additional information about the Council may be found at: http://earthquake.usgs.gov/aboutus/nepec/.

At the meeting, the Council will review plans and progress related to understanding, forecasting and communicating about earthquake occurrence in California, the Pacific Northwest, and the Central United States. The Council will ratify the charges to NEPEC subcommittees that will focus on: (1) Methods for rapidly estimating the probability of a large earthquake following a possible foreshock or during a swarm of seismicity, procedures by which Council findings are to be transmitted to the USGS, and the format and content of earthquake advisory statements that may be composed and delivered at times of heightened concern; (2) earthquake occurrence and forecasting in the Pacific Northwest; (3) earthquake occurrence and forecasting in the Central and Eastern U.S.; and (4) review procedures for the project intended to deliver an updated Uniform California Earthquake Rupture Forecast (UCERF3) in summer 2012.

Workshops and meetings of the National Earthquake Prediction Evaluation Council are open to the public. A draft workshop agenda is available on request (contact information below). In order to ensure sufficient seating and hand-outs, it is requested that visitors pre-register by November 1. Members of the public wishing to make a statement to the Committee should provide notice of that intention by November 1 so that time may be allotted in the agenda.

DATES: November 3, 2009, commencing at 8:30 a.m. and adjourning at 5:30 p.m., and November 4, 2009, commencing at 8:30 a.m. and adjourning at Noon.

Contact: Dr. Michael Blanpied, Executive Secretary, National Earthquake Prediction Evaluation Council, U.S. Geological Survey, MS 905, 12201 Sunrise Valley Drive, Reston, Virginia 20192, (703) 648-6696, E-mail: mblanpied@usgs.gov.

Dated: October 8, 2010.
William S. Leith,
Acting Associate Director for Natural Hazards.

[FR Doc. 2010-26164 Filed 10-15-10; 8:45 am]

BILLING CODE 4311-AM-P